DEPARTMENT OF JUSTICE

Notice of Lodging of a Consent Decree Pursuant to the Comprehensive Environmental Response, Compensation and Liability Act

Notice is hereby given that a proposed Consent Decree in United States of America v. Conexant Systems Inc., Rockwell International Corp., Civ. Action No. 06-2931 was lodged on July 5, 2006, with the United States District Court for the Eastern District of Pennsylvania.

In the Complaint filed in this matter, the United States alleges that Conexant Systems Inc. (“Conexant”) and Rockwell International Corp. (“Rockwell”) are liable for response costs pursuant to Section 107 of the Comprehensive Environmental Responses, Compensation and Liability Act (“CERCLA”), 42 U.S.C. 9607 for their involvement with the Recticon/Allied Steel (“Site”) in Parkerford, Pennsylvania. The proposed Consent Decree would resolve the United States' claims set forth in the Complaint through the payment of $357,694, and an agreement by Conexant and Rockwell to continue to perform operation and maintenance at the Site.

The Department of Justice will receive comments relating to the proposed Consent Decree for a period of thirty (30) days from the date of this publication. Comments should be addressed to the Assistant Attorney General, Environment and Natural Resources Division, P.O. Box 7611, U.S. Department of Justice, Washington, DC 20044 and should refer to United States of America v. Conexant Systems Inc., Rockwell International Corp., DJ No. 90-11-2-902/3.

The proposed Consent Decree may be examined at the office of the United States Attorney for the District of Pennsylvania, 615 Chestnut Street, Suite 1250, Philadelphia, PA 19106-4476, and at the Region 3 Office of the Environmental Protection Agency, 1630 Arch Street, Philadelphia, PA 19103. During the public comment period, the decree may also be examined on the following Department of Justice Web site, http://www.usdoj.gov/enrd/open.html. A copy of the decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury. The check should refer to United States of America v. Conexant Systems Inc., Rockwell International Corp., DJ No. 90-11-2-902/3.

Robert D. Brook,
Assistant Section Chief, Environmental Enforcement Section, Environment and Natural Resources Division.

[FR Doc. 06-6348 Filed 7-18-06; 8:45 am]

BILLING CODE 4410-15-M